DEPARTMENT OF ENERGY

Federal Energy Regulatory Commission

[Docket Nos. RP00-495-003 and RP01-97-002]

Texas Gas Transmission Corporation; Notice of Compliance Filing

October 4, 2002.

Take notice that on September 30, 2002, Texas Gas Transmission Corporation (Texas Gas) tendered for filing as part of its FERC Gas Tariff, First Revised Volume No. 1, the tariff sheets listed on Appendix A to the filing, to become effective on November 1, 2002.

Texas Gas states that these tariff sheets filed herewith are being submitted in compliance with the Commission's “Order on Order Nos. 637, 567-Gand 587-L Settlement” issued August 27, 2002 in Docket Nos. RP00-495-000, et al., (the Order).¹ Texas asserts that in that Order, the Commission found that Texas Gas states that it has generally complied with the requirements of Order No. 637,² subject to certain modifications discussed in the Order.

Texas Gas states that it was directed to file revised actual (not pro forma) tariff sheets within 30 days consistent with the discussion in the Order, but that the order directs that Texas Gas may not place the revised tariff sheets into effect before further order of the Commission.

¹ Texas Gas Transmission Corporation, 100 FERC 61,218 (2002).

² Regulation of Short-Term Natural Gas Transportation Services and Regulation of Interstate Natural Gas Transportation Services, FERC Stats. & Regs., Regulations Preambles (July 1996—December 2000) 31,091 (Feb. 9, 2000); order on rehearing, Order No. 637-A, FERC Stats. & Regs., Regulations Preambles (July 1996—December 2000) 31,099 (May 19, 2000); order on rehearing, Order No. 637-B, 92 FERC 61,062 (July 26, 2000); aff'd in part and remanded in part, Interstate Natural Gas Association of America v. FERC, 285 F.3d 18 (DC Cir. Apr. 5, 2002).

Texas Gas states that copies of the revised tariff sheets are being mailed to all parties on the official service list, to Texas Gas's jurisdictional customers and to interested state commissions.

Any person desiring to protest said filing should file a protest with the Federal Energy Regulatory Commission, 888 First Street, NE, Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY (202) 502-8659. The Commission strongly encourages electronic filings. See, 18 CFR 385.2001(a)(1)(iii) and the instructions on the Commission's web site under the “e-Filing” link.

Magalie R. Salas,
Secretary.

[FR Doc. 02-25802 Filed 10-10-02; 8:45 am]

BILLING CODE 6717-01-P